DEPARTMENT OF THE INTERIOR

Bureau of Land Management

[BLM_CA_FRN_MO4500179115]

Notice of Availability of the Record of Decision and Approved Resource Management Plan for the Redding and Arcata Field Offices Northwest California Integrated Resource Management Plan, CA

AGENCY: Bureau of Land Management, Interior.

ACTION: Notice of availability.

SUMMARY: The Bureau of Land Management (BLM) announces the availability of the Record of Decision (ROD) for the Approved Resource Management Plan (RMP) for the Redding Field Office and Arcata Field Office, Northwest California Integrated RMP. The California State Director signed the ROD on September 18, 2024, which constitutes the decision of the BLM and makes the Approved RMP effective immediately.

DATES: The California State Director signed the ROD on September 18, 2024.

ADDRESSES: The ROD/Approved RMP is available online at https://eplanning.blm.gov/eplanning-ui/project/2012803/510. Printed copies of the ROD/Approved RMP are available for public inspection at the Arcata Field Office, 1695 Heindon Road, Arcata, California 95521-4573 and the Redding Field Office, 6640 Lockheed Drive, Redding, CA 96002-9003 or can be provided upon request by contacting Victoria Callahan, Planning and Environmental Specialist at vslaughter@blm.gov or (707) 825-2315 or by contacting Chad Endicott, Planning and Environmental Specialist at cendciott@blm.gov or (530) 224-2140.

A copy of the Protest Resolution Report is available at: https://www.blm.gov/programs/planning-and-nepa/public-participation/protest-resolution-reports.

FOR FURTHER INFORMATION CONTACT: Victoria Callahan, Planning and Environmental Specialist, telephone: (707) 825-2315; address: Bureau of Land Management, Arcata Field Office, 1695 Heindon Road, Arcata, California 95521-4573; email: vslaughter@blm.gov or Chad Endicott, Planning and Environmental Specialist, telephone: (530) 224-2140; address: Bureau of Land Management, Redding Field Office, 6640 Lockheed Drive, Redding, CA 96002-9003; email: cendicott@blm.gov. Individuals in the United States who are deaf, deafblind, hard of hearing, or have a speech disability may dial 711 (TTY, TDD, or TeleBraille) to access telecommunications relay services for contacting Ms. Callahan or Mr. Endicott. Individuals outside the United States should use the relay services offered within their country to make international calls to the point-of-contact in the United States.

SUPPLEMENTARY INFORMATION: The Approved Northwest California Integrated RMP replaces the 1992 Arcata RMP and 1993 Redding RMP. The Northwest California planning area covers approximately 382,200 acres of public land and approximately an additional 295,100 subsurface acres of Federal mineral estate in Mendocino, Humboldt, Del Norte, Siskiyou, Trinity, Shasta, Tehama, and Butte counties. Separate management plans guide BLM management for National Monuments, National Conservation Areas, and similar designations within the planning area.

Other non-BLM-administered lands within the planning area include the Six Rivers, Shasta-Trinity, Klamath, Lassen, Plumas, and Mendocino National Forests; Lassen Volcanic and Redwoods National Parks; the Whiskeytown and Smith River National Recreation Areas; the Sacramento Castle Rock and Humboldt Bay National Wildlife Refuges; and Black Butte Lake (managed by the U.S. Army Corps of Engineers).

Tribal lands and reservations for 31 federally recognized Native American Tribes fall within the planning area and the BLM-administered lands include ancestral territories, sacred sites, gathering areas, and other places important to Tribes. The Bureau of Reclamation manages numerous land holdings and facilities within the planning area, including six hydroelectric dams and lands that are co-managed with the BLM under a memorandum of agreement with the Redding Field Office near the Shasta Dam and Keswick Reservoir. In addition to federally managed lands, there are an extensive number of State of California-managed beaches, parks, wildlife areas, and recreation areas in the planning area. The Arcata Field Office and Redding Field Office have taken these non-BLM-administered lands into account in this planning effort.

The Approved RMP balances resource use among competing human interests, land uses, and the conservation of natural and cultural resource values, while sustaining and enhancing ecological integrity across the landscape, including plant, wildlife, and fish habitat. The plan has varied landscapes with distinct management, and it incorporates a balanced level of protection, restoration, and enhancement, as well as the use of resources and services to meet ongoing programs and land uses with an emphasis on local community visions for the future of public lands.

Through this collaborative planning effort, the Approved RMP describes the actions and management to guide future management and meet desired resource conditions. The preferred alternative for the Proposed RMP was carried forward into the Approved RMP with minor modifications. Notably, the management direction for the Sacramento River Bend Area of Critical Environmental Concern was updated, eliminating the need for BLM Authorized Officer approval for wildfire suppression actions related to life or private property. Additionally, the plan now recognizes recent changes in a community wildfire protection plan and emphasizes the importance of considering municipal plans during implementation.

The BLM provided the Proposed RMP/Final EIS for a 30-day public protest starting on June 21, 2024, and received six protest letters. The BLM Director resolved all protests. Responses to protest issues were compiled and documented in a Protest Resolution Report (see ADDRESSES). No changes to the Northwest California Integrated Resource Management Plan Proposed RMP/EIS were necessary as a result of protests.

The BLM provided the Proposed RMP/Final EIS to the Governor of California for a 60-day Governor's consistency review on June 21, 2024. No inconsistencies with state or local plans, policies or programs were identified during the Governor's consistency review of the Proposed RMP/Final EIS. No changes to the Northwest California Integrated Resource Management Plan Proposed RMP/EIS were necessary as a result of the Governor's consistency review.

(Authority: 40 CFR 1506.6; 43 CFR 1610.5-1)

Joseph Stout,
State Director.

[FR Doc. 2024-25789 Filed 11-12-24; 8:45 am]

BILLING CODE 4331-15-P